DEPARTMENT OF ENERGY

Federal Energy Regulatory Commission

Combined Notice of Filings #1

Take notice that the Commission received the following electric corporate filings:

Docket Numbers: EC14-95-000.

Applicants: Broken Bow Wind II, LLC.

Description: Broken Bow Wind II, LLC Section 203 Application and Request for Expedited Action.

Filed Date: 5/30/14.

Accession Number: 20140530-5253.

Comments Due: 5 p.m. ET 6/20/14.

Take notice that the Commission received the following electric rate filings:

Docket Numbers: ER13-1159-001.

Applicants: National Grid Generation LLC.

Description: Annual Reset of Pension and OPEB Expenses Ending 12/31/13 to be effective 1/1/2013.

Filed Date: 5/30/14.

Accession Number: 20140530-5314.

Comments Due: 5 p.m. ET 6/20/14.

Docket Numbers: ER13-2336-002.

Applicants: Portland General Electric Company.

Description: Portland General Electric Company submits tariff filing per 35: Compliance Filing Order 764 to be effective 11/12/2013.

Filed Date: 5/30/14.

Accession Number: 20140530-5326.

Comments Due: 5 p.m. ET 6/20/14.

Docket Numbers: ER14-2062-000.

Applicants: Southwest Power Pool, Inc.

Description: SPP-MISO JOA Emergency Energy Assistance Revisions to Section 3.3 to be effective 3/1/2014.

Filed Date: 5/29/14.

Accession Number: 20140529-5260.

Comments Due: 5 p.m. ET 6/19/14.

Docket Numbers: ER14-2063-000.

Applicants: California Independent System Operator Corporation.

Description: 2014-05-29_IPE_Topics1-2 to be effective 8/1/2014.

Filed Date: 5/29/14.

Accession Number: 20140529-5267.

Comments Due: 5 p.m. ET 6/19/14.

Docket Numbers: ER14-2064-000.

Applicants: ISO New England Inc.

Description: Northeast Utilities Service Company to be effective 7/30/2014.

Filed Date: 5/30/14.

Accession Number: 20140530-5031.

Comments Due: 5 p.m. ET 6/20/14.

Docket Numbers: ER14-2065-000.

Applicants: Southwest Power Pool, Inc.

Description: 2889 ITC Great Plains and Mid-Kansas Electric Co. Novation to be effective 7/29/2014.

Filed Date: 5/30/14.

Accession Number: 20140530-5085.

Comments Due: 5 p.m. ET 6/20/14.

Docket Numbers: ER14-2066-000.

Applicants: Public Service Company of New Mexico.

Description: Annual Update Filing of GFA to be effective 6/1/2014.

Filed Date: 5/30/14.

Accession Number: 20140530-5169.

Comments Due: 5 p.m. ET 6/20/14.

Docket Numbers: ER14-2069-000.

Applicants: CED White River Solar 2, L.L.C.

Description: Filing of Certificate of Concurrence to be effective 5/30/2014.

Filed Date: 5/30/14.

Accession Number: 20140530-5214.

Comments Due: 5 p.m. ET 6/20/14.

Docket Numbers: ER14-2070-000.

Applicants: Plains and Eastern Clean Line LLC, Plains and Eastern Clean Line Oklahoma LLC.

Description: Application for Authorization to Sell Transmission Service Rights at Negotiated Rates, Request for Approval of Capacity Allocation Process, Request for Waivers, and Request for Expedited Action of Plains and Eastern Clean Line LLC, et al.

Filed Date: 5/30/14.

Accession Number: 20140530-5221.

Comments Due: 5 p.m. ET 6/20/14.

Docket Numbers: ER14-2071-000.

Applicants: NorthWestern Corporation.

Description: SA 717—Construction Agreement with Idaho Power Company to be effective 5/31/2014.

Filed Date: 5/30/14.

Accession Number: 20140530-5220.

Comments Due: 5 p.m. ET 6/20/14.

Docket Numbers: ER14-2072-000.

Applicants: Midcontinent Independent System Operator, Inc.

Description: 2014-05-30_Index of Customers Filing to be effective 7/30/2014.

Filed Date: 5/30/14.

Accession Number: 20140530-5222.

Comments Due: 5 p.m. ET 6/20/14.

Docket Numbers: ER14-2073-000.

Applicants: Panda-Brandywine, L.P.

Description: Market-Based Rate Tariff to be effective 6/1/2014.

Filed Date: 5/30/14.

Accession Number: 20140530-5229.

Comments Due: 5 p.m. ET 6/20/14.

Docket Numbers: ER14-2074-000.

Applicants: Broken Bow Wind II, LLC.

Description: Broken Bow Wind II, LLC, Common Facilities Agreement to be effective 7/28/2014.

Filed Date: 5/30/14.

Accession Number: 20140530-5262.

Comments Due: 5 p.m. ET 6/20/14.

Docket Numbers: ER14-2075-000.

Applicants: Eagle Point Power Generation LLC.

Description: Request for Waiver of Eagle Point Power Generation LLC under New Docket.

Filed Date: 5/30/14

Accession Number: 20140530-5278.

Comments Due: 5 p.m. ET 6/20/14.

Docket Numbers: ER14-2076-000.

Applicants: Pacific Gas and Electric Company.

Description: Western IA May 2014 Biannual Filing to be effective 8/1/2014.

Filed Date: 5/30/14.

Accession Number: 20140530-5290.

Comments Due: 5 p.m. ET 6/20/14.

Docket Numbers: ER14-2078-000.

Applicants: PJM Interconnection, L.L.C.

Description: First Revised Service Agreement No. 3202; Queue No. W3-077 to be effective 4/30/2014.

Filed Date: 5/30/14.

Accession Number: 20140530-5307.

Comments Due: 5 p.m. ET 6/20/14.

Docket Numbers: ER14-2079-000.

Applicants: Pacific Gas and Electric Company.

Description: Western WDT May 2014 Biannual Filing to be effective 8/1/2014.

Filed Date: 5/30/14.

Accession Number: 20140530-5317.

Comments Due: 5 p.m. ET 6/20/14.

Docket Numbers: ER14-2080-000.

Applicants: Louisiana Generating LLC.

Description: Louisiana Generating LLC submits tariff filing per 35.13(a)(2)(iii: Proposed Rate Schedule FERC No. 11 to be effective 8/1/2014.

Filed Date: 5/30/14.

Accession Number: 20140530-5329.

Comments Due: 5 p.m. ET 6/20/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 30, 2014.
Nathaniel J. Davis, Sr.,
Deputy Secretary.

[FR Doc. 2014-13274 Filed 6-6-14; 8:45 am]

BILLING CODE 6717-01-P